NATIONAL SCIENCE FOUNDATION

Advisory Committee for Engineering: Notice of Meeting

In accordance with the Federal Advisory Committee Act (Pub. L. 92-463, as amended) the National Science Foundation announces the following meeting.

Name: Advisory Committee for Engineering (#1170)

Date/Time: May 9, 2000; 1 p.m.-5 p.m.;, May 10, 2000; 8:30 a.m.-5 p.m.

Place: Room 1235 (National Science Board Meeting Room), National Science Foundation, 4201 Wilson Boulevard, Arlington, VA.

Type of Meeting: Open

Contact Person: Dr. Elbert L. Marsh, Deputy Assistant Director for Engineering, National Science Foundation, Suite 505, 4201 Wilson Boulevard, Arlington, VA 22230; Telephone: (703) 306-1301; email: emarsh@nsf.gov. For easier building access, individuals planning to attend should contact Maxine Byrd at 703-306-1300 or at mbyrd@nsf.gov so that your name can be added to the building access list.

Minutes: May be obtained from the contact person listed above.

Purpose of Meeting: To provide advice, recommendations and counsel on major goals and policies pertaining to Engineering programs and activities.

Agenda: The principal focus of the forthcoming meeting will be on strategic issues, both for the Directorate and the Foundation as a whole.

Dated: April 6, 2000.
Karen J. York,
Committee Management Officer.

[FR Doc. 00-9192 Filed 4-12-00; 8:45 am]

BILLING CODE 7555-01-M